DEPARTMENT OF HEALTH AND HUMAN SERVICES

Centers for Disease Control and Prevention

[60 Day-02-74]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. National Center for Environmental Health (NCEH) is requesting an emergency clearance from the Office of Management and Budget (OMB) to collect data under the Paperwork Reduction Act. Send comments to Seleda M. Perryman, CDC Assistant Reports Clearance Officer, 1600 Clifton Road, MS-D24, Atlanta, GA 30333. Written comments should be received within 14 days of this notice. We are requesting that OMB respond to CDC within 21 days after receipt of the package.

Proposed Project

Implementation of the National Cooperative Inner-City Asthma Intervention in Inner-City Poor Children treated through Managed Care Setting—New—National Center for Environmental Health (NCEH), Centers for Disease Control and Prevention (CDC).

The Inner-City Asthma Intervention (ICAI) program has implemented the National Cooperative Inner-City Asthma Study (NCICAS), a multi-faceted, multi-modal intervention designed to address a wide range of problems of the child with asthma and his or her family. NCICAS demonstrated that an individually tailored intervention carried out by masters-level social workers trained in asthma management can reduce asthma symptoms among children in the inner city. The ICAI has been implemented in 23 urban areas to provide asthma education to poor, inner-city children aged 6-12 years with moderate to severe asthma and their families. This asthma intervention program is currently in year 2 of a 4 year contract period. An asthma counselor (master-level social worker) is employed at each site to tailor the one year asthma intervention to the needs of the individual child and the child's family. Each site enrolls 80 children in the intervention yearly through physician referral. The asthma counselor documents process variables including number of children enrolled in the intervention, retention rate, number of children and families completing key intervention components, and a narrative summary of lessons learned in conducting the intervention. This information is submitted quarterly to the contractor.

At the end of the four year project, this information will be summarized to determine the clinics' success in implementing the intervention protocol. There is no cost to the respondents other than their time. Time burden for response to the report may vary, but the average time to respond is 1 hour.

Respondents | No. of respondents | No. of responses/respondent | Avg. burden/response (in hours) | Total burden (in hours)
Asthma Counselor | 23 | 4 | 1 | 92
Total |  |  |  | 92

Dated: August 27, 2002.
Nancy Cheal,
Acting Associate Director for Policy, Planning and Evaluation, Centers for Disease Control and Prevention.

[FR Doc. 02-22432 Filed 9-3-02; 8:45 am]

BILLING CODE 4163-18-P